NATIONAL TRANSPORTATION SAFETY BOARD

Plan for Generic Information Collection Activity: Submission for OMB Review; Comment Request

AGENCY: National Transportation Safety Board (NTSB).

ACTION: Notice.

SUMMARY: The NTSB is announcing it is submitting a plan for an Information Collection Request (ICR) to the Office of Management and Budget (OMB) for approval, in accordance with the Paperwork Reduction Act.

This ICR Plan describes various evaluation forms the NTSB plans to use to obtain feedback from attendees of various NTSB training programs. Feedback from attendees is important to the NTSB in ensuring the NTSB's training courses and programs are helpful to attendees in their places of employment; and useful to attendees who participate in NTSB investigations and other related agency matters. This ICR Plan is the second notice, as required by OMB regulations concerning approvals of information collections. This notice again describes the nature of the information collection and its expected burden and advises the public it may submit comments on this proposed information collection to the OMB desk officer for the NTSB.

DATES: Submit written comments regarding this proposed plan for the collection of information by November 10, 2014.

ADDRESSES: Interested members of the public may submit written comments on the collection of information to the OMB Desk Officer for the NTSB at Office of Management and Budget, 725 17th Street NW., Washington, DC 20503, or via fax: 202-395-5806, (this is not a toll-free number), or email: OIRA-submission@omb.eop.gov. Commenters are encouraged, but not required, to send a courtesy copy of any comments to the National Transportation Safety Board Training Center, 45065 Riverside Parkway, Ashburn, Virginia 20147.

FOR FURTHER INFORMATION CONTACT: James Pritchert, NTSB Training Officer, at (571) 223-3927.

SUPPLEMENTARY INFORMATION: In accordance with OMB regulations that require this Notice for proposed ICRs, as well as OMB guidance concerning generic approval of plans for information collections, the NTSB herein notifies the public that it may submit comments on this proposed ICR Plan to the OMB Desk Officer for the NTSB. 5 CFR 1320.10(a). Section 1320.10(a) requires this “notice shall direct comments to the Office of Information and Regulatory Affairs of OMB, Attention: Desk Officer for [NTSB].” Pursuant to § 1320.10(a), the NTSB will provide a copy of this notice to OMB.

On March 13, 2014, the NTSB published a Notice requesting comments for this ICR. 79 FR 14302-02. The NTSB did not receive any comments in response to the request.

A. NTSB Training Center Evaluation Forms Are Appropriate for Generic Approval

On May 28, 2010, Administrator, Office of Information and Regulatory Affairs (OIRA), OMB, issued a memorandum to the Heads of Executive Departments and Agencies, and Independent Regulatory Agencies, providing instructions concerning how agencies can obtain generic OMB clearances for information collections in certain circumstances. Paperwork Reduction Act—Generic Clearances, available at http://www.whitehouse.gov/sites/default/files/omb/assets/inforeg/PRA_Gen_ICRs_5-28-2010.pdf. The memorandum states as follows concerning the appropriateness of obtaining such clearances:

A generic ICR is a request for OMB approval of a plan for conducting more than one information collection using very similar methods when (1) the need for and the overall practical utility of the data collection can be evaluated in advance, as part of the review of the proposed plan, but (2) the agency cannot determine the details of the specific individual collections until a later time.

The NTSB's desire to obtain information immediately following a training course will assist the NTSB Training Center in developing courses to achieve the NTSB's objective of improving investigators' and transportation industry peers' practices of accident investigation. The mission of the NTSB Training Center, in accordance with 49 U.S.C. 1113(b)(1)(I), is to promote safe transport by:

• Ensuring and improving the quality of accident investigation through critical thought, instruction, and research;

• Communicating lessons learned, fostering the exchange of new ideas and new experience, and advocating operational excellence;

• Providing a modern platform for accident reconstruction and evaluation; and

• Utilizing its high-quality training resources to facilitate family assistance and first responder programs, sister agency instruction, and other compatible federal activity.

In administering training courses designed to achieve these objectives, the NTSB seeks to maintain a standard of excellence. The NTSB's goal of providing materials, instructors, methods of instruction, and facility arrangements that are a worthy expenditure of Federal funds will require the NTSB to obtain feedback on the training courses from attendees.

This type of information collection is appropriate for generic approval under the OIRA Administrator's guidance. The NTSB periodically changes the identification numbers and subject matter addressed in NTSB training courses. Such variance renders generic approval appropriate. By distributing evaluation forms, the NTSB will gather feedback concerning whether attendees found the instructor knowledgeable and helpful; whether the course materials were appropriate; the location and course facilities; the “case studies” discussed in the course; and other similar topics. Each course evaluation form will include some course-specific questions. Responses to such evaluations will assist the NTSB in ensuring its courses work to fulfill the goals listed above.

Currently, the NTSB offers the following training courses, about which the NTSB seeks approval for evaluation forms: Accident Investigation Orientation (RPH301); Aircraft Accident Investigation (AS101); Aircraft Accident Investigation for Aviation Professionals (AS 301); Cognitive Interviewing Series (IM401S); Family Assistance (TDA301); Investigating Human Fatigue Factors (IM303); Managing Communications During an Aircraft Accident or Incident (PA302); Managing Communications Following a Major Transportation Accident (PA303); Managing Transportation Mass Fatality Incidents (TDA406); Marine Accident Investigation (MS101); Mass Fatality Incidents for Medicolegal Professionals (TDA403); Rotorcraft Accident Investigation (AS102); and Survival Factors in Aviation Accidents (AS302). In response to attendee feedback, requests for training in specific areas, and other considerations, the NTSB will likely add or remove classes from this list in the coming years.

The NTSB will tailor each evaluation form to ensure it requests feedback specific to the particular course of which the NTSB seeks evaluation. Consistent with the OIRA Administrator's guidance concerning generic approvals, the NTSB will not be able to finalize draft evaluations specific to each course until the NTSB offers the course. These types of questions are unique to the specific course, and impossible to know prior to the offering of the course. Overall, the types of information the NTSB will solicit in its Training Center course evaluations is appropriate for a generic approval for the information collection.

B. Supporting Statement

The OIRA Administrator's memorandum instructs agencies to provide specific information in the supporting statements describing the information collections. In particular, the supporting statements should include the following:

• The method of collection and, if statistical methods will be used, a discussion of the statistical methodology;

• The category (or categories) of respondents;

• The estimated “burden cap,” i.e., the maximum number of burden hours (per year) for the specific information collections, and against which burden will be charged for each collection actually used;

• The agency's plans for how it will use the information collected;

• The agency's plans to obtain public input regarding the specific information collections (i.e., consultation); and

• The agency's internal procedures to ensure that the specific collections comply with the PRA, applicable regulations, and the terms of the generic clearance.

Id. at 2.

1. Method of Collection

The NTSB will collect the information by transmitting the evaluation form to attendees of each Training Center course. Depending on the circumstances, such transmission may occur via hand delivery, electronic mail, postal mail, or express mail, or a combination of these methods. Respondents will be provided instructions concerning how to return questionnaires to the Training Center.

The NTSB will not use statistical methodology in reaching any conclusions based on the evaluations. Instead, the NTSB merely will note the total number of respondents in any documents in which it discusses the evaluations.

Respondents' completion of the evaluations is voluntary, and the NTSB generally will not contact them more than once to request completion of the evaluation.

2. Category of Respondents

In its evaluation forms, the NTSB will generally seek information only from attendees of each course. The NTSB will have the contact information for each attendee, because such information is required when registering for Training Center courses.

3. Maximum Burden Hours

The NTSB plans to distribute the evaluations to attendees of each Training Center course. The NTSB offers 12 different courses per year and provides a repeated program for those courses with the highest attendance levels. Among all courses, the NTSB estimates a total of 600 non-Government attendees complete courses in any given year. As a result, the NTSB estimates it will distribute approximately 600 Training Center evaluation forms each year. Each evaluation form will take approximately 11 minutes to complete.

The NTSB seeks to emphasize these estimations are approximate, as they are depend on the number of courses the NTSB offers in the Training Center. Some courses may be cancelled due to low registration. In addition, only Government employees may choose to attend other courses. As a result, the NTSB can only provide an approximate estimate of the number of attendees per year.

4. Use of the Information Collected

Feedback from attendees of NTSB Training Center courses is extremely important to the NTSB. The NTSB plans its course offerings based on the level of interest from potential attendees and on the degree to which attendees have found useful the information they learned during such courses. As a result, evaluations of NTSB Training Center courses will influence future course offerings. The NTSB will rely upon the provision of completed course evaluations to assist with the planning of course offerings.

5. Public Input Regarding the Information Collected

The NTSB does not generally obtain public input concerning the scope of, or specific questions on, NTSB Training Center evaluation forms.

6. Internal Procedures

Lastly, the OIRA Administrator's memorandum describing generic clearances recommends agencies describe the procedures it will undertake to ensure information collections to which the generic clearance applies will comply with the Paperwork Reduction Act, applicable regulations, and the terms provided in the generic clearance. The NTSB Office of General Counsel plans to provide internal guidance to agency personnel who offer courses and distribute course evaluations at the NTSB Training Center. Such guidance will include this publication, as well as the OIRA Administrator's memorandum discussing generic clearances, upon OMB approval of the clearance. The internal guidance will include specific instructions concerning use of evaluation forms, and explain the applicable provisions of the Paperwork Reduction Act and its implementing regulations.

C. Description of Burden

The NTSB has carefully reviewed previous questionnaires it has used to obtain information from attendees of courses the NTSB Training Center offers. The NTSB assures the public that these questionnaires have used plain, coherent, and unambiguous terminology in its requests for feedback. In addition, the questionnaires are not duplicative of other agencies' collections of information, because the NTSB maintains unique authority to offer such courses concerning investigations of transportation events. 49 U.S.C. 1113(b)(1)(I).

In general, the NTSB believes the evaluation forms will impose a minimal burden on respondents: As indicated above, the NTSB estimates that each respondent will spend approximately 11 minutes in completing the evaluation. The NTSB estimates that a maximum of 240 respondents per year would complete an evaluation. Although the NTSB may distribute evaluations to perhaps as many as 600 people, historic response rates indicate only 40 percent of the evaluations will be returned completed. However, the NTSB again notes this number will vary, given the changes in course offerings at the NTSB Training Center.

D. Request for Comments

In accordance with 44 U.S.C. 3506(c)(2)(A), the NTSB seeks feedback from the public concerning this proposed plan for information collection. In particular, the NTSB asks the public to evaluate whether the proposed collection of information is necessary; to assess the accuracy of the NTSB's burden estimate; to comment on how to enhance the quality, utility, and clarity of the information to be collected; and to comment on how the NTSB might minimize the burden of the collection of information.

The NTSB will carefully consider all feedback it receives in response to this notice. As described above, obtaining the information the NTSB seeks on these evaluations in a timely manner is important to course offerings at the NTSB Training Center; therefore, obtaining approval from OIRA for these collections of information on a generic basis is a priority for the NTSB.

Dated: October 6, 2014.
Christopher A. Hart,
Acting Chairman.

[FR Doc. 2014-24234 Filed 10-9-14; 8:45 am]

BILLING CODE 7533-01-P